DEPARTMENT OF LABOR

Employment and Training Administration

Agency Information Collection Activities; Comment request; Revision of H-2A Temporary Agricultural Labor Certification Program

AGENCY: Employment and Training Administration, Labor.

ACTION: Notice; reopening of comment period.

SUMMARY: The Department of Labor (Department) is reopening the comment period for the Notice, “Agency Information Collection Activities; Comment request; Revision of H-2A Temporary Agricultural Labor Certification Program”, published in the Federal Register on September 10, 2025. The Department is taking this action to allow interested persons additional time to submit comments.

DATES: The comment period for the Notice published September 10, 2025, at 90 FR 43640, is reopened. Consideration will be given to all written comments received by January 16, 2026.

ADDRESSES: You may submit comments on this information request, identified by OMB Control Number 1205-0466, by emailing Brian Pasternak at ETA.OFLC.Forms@dol.gov.

FOR FURTHER INFORMATION CONTACT: Brian Pasternak, Administrator, Office of Foreign Labor Certification (OFLC), by email at ETA.OFLC.Forms@dol.gov.

SUPPLEMENTARY INFORMATION: On September 10, 2025, the Employment and Training Administration published a 60-day Federal Register notice at 90 FR 43640 for the public to comment on proposed revisions to the ICR covered under H-2A Temporary Agricultural Labor Certification Program OMB Control Number 1205-0466 based on changes proposed through the notice of proposed rulemaking “Recission of Final Rule: Improving Protections for Workers in Temporary Agricultural Employment in the United States.” The notice of proposed rulemaking proposed to rescind provisions of the H-2A final rule published by the Department on April 29, 2024. Due to the government shutdown, the public could not request copies of all associated forms and materials and review those materials to inform potential comments on the Federal Register notice because OFLC staff were not available to provide those documents during a significant portion of the 60-day comment period, which concluded on November 10, 2025.

This notice ensures the public has the opportunity to request the supporting documents with the proposed changes to the ICR covered under 1205-0466, in order to make fully informed comments about the changes proposed through the Federal Register notice. Therefore, the Department is reopening the 60-day comment period until January 16, 2026 to allow the public additional time to request the support documents and provide comments related to the ICR covered under 1205-0466.

Susan Frazier,
Acting Assistant Secretary for Employment and Training, Labor.

[FR Doc. 2025-23127 Filed 12-16-25; 8:45 am]

BILLING CODE 4510-FP-P